DEPARTMENT OF COMMERCE

Economic Development Administration

Agency Information Collection Activities; Submission to the Office of Management and Budget (OMB) for Review and Approval; Comment Request; Comprehensive Economic Development Strategies (CEDS)

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 21, 2025.

ADDRESSES: Interested persons are invited to submit written comments by mail to Jeff Roberson, Chief Counsel, U.S. Department of Commerce, via email at jroberson@eda.gov or via phone at (202) 482-1315. You may also submit comments to PRAcomments@doc.gov. Please reference OMB Control Number 0610-0093 in the subject line of your comments. Do not submit Confidential Business Information or otherwise sensitive or protected information.

FOR FURTHER INFORMATION CONTACT: Requests for additional information or specific questions related to collection activities should be directed to Interested persons are invited to submit written comments by mail to Jeff Roberson, Chief Counsel, U.S. Department of Commerce, via email at jroberson@eda.gov or via phone at (202) 482-1315.

SUPPLEMENTARY INFORMATION:

I. Abstract

The Economic Development Administration (EDA) leads the Federal economic development agenda by promoting innovation and competitiveness, preparing American regions for growth and success in the worldwide economy. Guided by the basic principle that sustainable economic development should be locally-driven, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, capacity building, and business development to attract private capital investments and new and better jobs to regions experiencing economic distress. Further information on EDA programs and financial assistance opportunities can be found at www.eda.gov.

To effectively administer and monitor its economic development assistance programs, EDA collects certain information from applications for, and recipients of, EDA investment assistance. The purpose of this notice is to seek comments from the public and other Federal agencies on a request for an extension of an information collection related to a Comprehensive Economic Development Strategy (CEDS). A CEDS emerges from a continuing planning process developed and driven by a public sector planning organization by engaging a broad-based and diverse set of stakeholders to address the economic problems and potential of a region. The CEDS should include information about how and to what extent stakeholder input and support was solicited. Information on how the planning organization collaborated with its diverse set of stakeholders (including the public sector, private interests, non-profits, educational institutions, and community organizations) in the development of the CEDS should be included. In accordance with 13 CFR 303.7(b), a CEDS must contain a summary background, a SWOT (Strengths, Weaknesses, Opportunities, and Threats) Analysis, Strategic Direction/Action Plan, and an Evaluation Framework. In addition, the CEDS must incorporate the concept of economic resilience (i.e., the ability to avoid, withstand, and recover from economic shifts, natural disasters, etc.). A CEDS is required for an eligible applicant to qualify for an EDA investment assistance under EDA's Public Works program, Economic Adjustment Assistance program, and certain planning programs, and is a prerequisite for a region's designation by EDA as an Economic Development District (see 13 CFR part 303, 13 CFR 305.2, and 13 CFR 307.2). EDA collects information under this information collection to ensure compliance with EDA's CEDS requirements.

This information collection is scheduled to expire on January 31, 2025. EDA is not proposing any changes to the current information collection request.

II. Method of Collection

CEDS are collected primarily through electronic submissions but may also be collected through paper submission.

III. Data

OMB Control Number: 0610-0093.

Form Number(s): None.

Type of Review: Regular submission; Extension of a currently approved collection.

Affected Public: (1) Cities or other political subdivisions of a State, including a special purpose unit of State or local government engaged in economic or infrastructure development activities; (2) States; (3) institutions of higher education; (4) public or private non-profit organizations or associations; (5) District Organizations; and (6) Indian Tribes.

Estimated Number of Respondents: 527.

Estimated Time per Response: 480 hours for the initial CEDS for a District organization or other planning organization funded by EDA; 160 hours for the CEDS revision required at least every 5 years from an EDA-funded District or other planning organization; 40 hours per CEDS update and performance report; and 40 hours per applicant for EDA Public Works or Economic Adjustment Assistance with a project deemed by EDA to merit further consideration that is not located in an EDA-funded District.

Estimated Total Annual Burden Hours: 31,640.

Type of response | Number of responses | Hours per response | Estimated time (hours)
Initial CEDS | 3 | 480 hours/initial CEDS | 1,440
Revised CEDS | 77 | 160 hours/revised CEDS | 12,320
CEDS Updates/Performance Reports | 385 | 40 hours/report | 15,400
CEDS by applicants not in EDA-funded District | 62 | 40 hours | 2,480
Total | 527 |  | 31,640

Estimated Total Annual Cost to Public: $2,170,504 (cost assumes application of U.S. Bureau of Labor Statistics September 2024 hourly employer costs for employee compensation for professional and related occupations of $68.60).

Respondent's Obligation: Mandatory.

Legal Authority: The Public Works and Economic Development Act of 1965 (42 U.S.C. 3121 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-27332 Filed 11-20-24; 8:45 am]

BILLING CODE 3510-34-P